ELECTION ASSISTANCE COMMISSION

Sunshine Act Notice

AGENCY: U.S. Election Assistance Commission.

ACTION: Notice of public meeting.

Date and Time: Tuesday, October 7, 2008, 10 a.m.-1 p.m.

Place: U.S. Election Assistance Commission, 1225 New York Ave., NW., Suite 150, Washington, DC 20005 (Metro Stop: Metro Center).

Agenda: Commissioners will consider and vote on Draft EAC Guidance to States Regarding Material Changes to State Plans. Commissioners will consider and vote on the accreditation of CIBER, Inc. Commissioners will consider a Draft Working Group Policy [formally known as Draft Policy for Joint Partnership Task Force of EAC and State Election Officials Regarding Spending of HAVA Funds]. Commissioners will discuss revisions to the advisory opinion process. The Commission will consider other administrative matters.

This meeting will be open to the public.

Person to Contact for Information: Bryan Whitener, Telephone: (202) 566-3100.

Thomas R. Wilkey,
Election Director, U.S. Election Assistance Commission.

[FR Doc. E8-22130 Filed 9-17-08; 4:15 pm]

BILLING CODE 6820-KF-P